COMMISSION ON CIVIL RIGHTS

Sunshine Act Meeting Notice

AGENCY: Commission on Civil Rights.

ACTION: Notice of Commission public briefing.

SUMMARY: Notice of Commission public briefing, The Federal Role in Enforcing Religious Freedoms in Prison, Notice of Commission business meeting, and call for public comments.

DATES: Friday, May 17, 2024, 10 a.m. ET.

ADDRESSES: The briefing is open to the public and can be attended via live stream on the Commission's YouTube page at: https://www.youtube.com/usccr.

FOR FURTHER INFORMATION CONTACT: Angelia Rorison (202) 376-8359; publicaffairs@usccr.gov.

SUPPLEMENTARY INFORMATION: The U.S. Commission on Civil Rights on whether prisoners' religious freedom rights are being protected and enforced in accordance with constitutional and statutory provisions. This is an update to the Commission's 2008 statutory enforcement report, Enforcing Religious Freedom in Prison.

At this public briefing, the Commission will hear from subject matter experts such as government officials, religious leaders, academics, prisoners' rights advocates, religious liberty organizations, and legal experts. The Commission will accept written materials from the public for consideration as we prepare our report; submit to rfip@usccr.gov no later than Monday, June 17, 2024.

This briefing is open to the public and is accessible via live stream at https://www.youtube.com/usccr. (* Streaming information subject to change.)

Computer assisted real-time transcription (CART) will be provided. The web link to access CART (in English) on Friday, May 17, 2024, is https://www.streamtext.net/player?event=USCCR. Please note that CART is text-only translation that occurs in real time during the meeting and is not an exact transcript.

To request additional accommodations, persons with disabilities should email access@usccr.gov by Monday, May 13, 2024, indicating “accommodations” in the subject line.

Briefing Agenda for Civil Rights Implications of the Federal Use of Facial Recognition Technology

10:00 a.m.-3:15 p.m.

All times Eastern Standard Time

I. Introductory Remarks: 10:00-10:10 a.m.

II. Panel 1: Constitutional and Legal Experts: 10:10-11:25 a.m.

III. Break: 11:25-11:35 a.m.

IV. Panel 2: Religious Leaders & Direct Service Providers: 11:35 a.m.-12:50 p.m.

V. Lunch: 12:50-1:50 p.m.

VI. Panel 3: Prisoners' Religious Rights Advocates: 1:50 p.m.-3:05 p.m.

VII. Closing Remarks: 3:05-3:15 p.m.

VIII. Adjourn Meeting.

** Public Comments will also be accepted through written testimony.

* Schedule is subject to change.

Call for Public Comments

In addition to the testimony collected on Friday, May 17, 2024, via public briefing, the Commission welcomes the submission of material for consideration as we prepare our report. Please submit such information to rfip@usccr.gov no later than June 17, 2024, or by mail to OCRE/Public Comments, ATTN: RFIP, U.S. Commission on Civil Rights, 1331 Pennsylvania Ave. NW, Suite 1150, Washington, DC 20425.

Dated: May 17, 2024.
Angelia Rorison,
USCCR Media and Communications Director.

[FR Doc. 2024-10409 Filed 5-8-24; 4:15 pm]

BILLING CODE 6335-01-P